ENVIRONMENTAL PROTECTION AGENCY

40 CFR Part 300

[FRL-7939-7]

National Oil and Hazardous Substance Pollution Contingency Plan; National Priorities List

AGENCY: Environmental Protection Agency.

ACTION: Direct Final Notice of Deletion of the Mallard Bay Landing Bulk Plant Superfund Site from the National Priorities List.

SUMMARY: The Environmental Protection Agency (EPA) Region 6 is publishing a Direct Final Notice of Deletion of the Mallard Bay Landing Bulk Plant Superfund Site (Site), located northeast of Grand Chenier in Cameron Parish, Louisiana, from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Louisiana, through the Louisiana Department of Environmental Quality (LDEQ), because EPA has determined that all appropriate response actions under CERCLA have been completed and, therefore, further remedial action pursuant to CERCLA is not appropriate.

DATES: This Direct Final Notice of Deletion will be effective September 19, 2005, unless EPA receives adverse comments by August 19, 2005. If adverse comments are received, EPA will publish a timely withdrawal of the direct final deletion in the Federal Register informing the public that the deletion will not take effect.

ADDRESSES: Comments may be mailed to: Beverly Negri, Community Involvement Coordinator, U.S. EPA Region 6 (6SF-LP), 1445 Ross Avenue, Dallas, TX 75202-2733, (214) 665-8157 or 1-800-533-3508 (negri.beverly@epa.gov).

Information Repositories: Comprehensive information about the Site is available for viewing and copying at the Site information repositories located at: U.S. EPA Region 6 Library, 12th Floor, 1445 Ross Avenue, Suite 12D13, Dallas, Texas 75202-2733, (214) 665-6427, Monday through Friday 7:30 a.m. to 4:30 p.m.; Vermilion Parish Library, 605 McMurtry Street, Gueydan, Louisiana 70542-4140, (337) 536-6781, Monday through Friday 10 a.m. to 5 p.m., Saturday 9 a.m. to 12 p.m.; Louisiana Department of Environmental Quality, Public Records Center, 602 North Fifth Street, Baton Rouge, LA 70802, (225) 219-3168, Monday through Friday 8 a.m. to 4:30 p.m.

FOR FURTHER INFORMATION CONTACT: Michael A. Hebert, Remedial Project Manager (RPM), U.S. EPA Region 6 (6SF-LP), 1445 Ross Avenue, Dallas, TX 75202-2733, (214) 665-8315 or 1-800-533-3508 (hebert.michael@epa.gov).

SUPPLEMENTARY INFORMATION:

Table of Contents

I. Introduction

II. NPL Deletion Criteria

III. Deletion Procedures

IV. Basis for Site Deletion

V. Deletion Action

I. Introduction

The EPA Region 6 office is publishing this Direct Final Notice of Deletion of the Mallard Bay Landing Bulk Plant Superfund Site from the NPL.

The EPA identifies sites that appear to present a significant risk to public health or the environment and maintains the NPL as the list of those sites. As described in section 300.425(e)(3) of the NCP, sites deleted from the NPL remain eligible for remedial actions if conditions at a deleted site warrant such action.

Because EPA considers this action to be noncontroversial and routine, EPA is taking it without prior publication of a notice of intent to delete. This action will be effective September 19, 2005, unless EPA receives adverse comments by August 19, 2005, on this document. If adverse comments are received within the 30-day public comment period on this document, EPA will publish a timely withdrawal of this direct final notice of deletion before the effective date of the deletion and the deletion will not take effect. The EPA will, as appropriate, prepare a response to comments and continue with the deletion process on the basis of the notice of intent to delete and the comments already received. There will be no additional opportunity to comment.

Section II of this document explains the criteria for deleting sites from the NPL. Section III discusses procedures that EPA is using for this action. Section IV discusses the Mallard Bay Landing Bulk Plant Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) response under CERCLA has been implemented, and no further response action by responsible parties is appropriate; or,

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c) requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system. Deletion of a site from the NPL does not preclude eligibility for subsequent Fund-financed or responsible party actions. If future conditions warrant, Section 300.425(e)(3) of the NCP provides that Fund-financed remedial actions may be taken at sites deleted from the NPL.

III. Deletion Procedures

The following procedures apply to deletion of the Site:

(1) The EPA consulted with LDEQ on the deletion of the Site from the NPL prior to developing this Direct Final Notice of Deletion.

(2) LDEQ concurred with deletion of the Site from the NPL.

(3) Concurrently with the publication of this Direct Final Notice of Deletion, a notice of the availability of the parallel notice of intent to delete published today in the “Proposed Rules” section of the Federal Register is being published in a major local newspaper of general circulation at or near the Site and is being distributed to appropriate federal, state, and local government officials and other interested parties; the newspaper notice announces the 30-day public comment period concerning the notice of intent to delete the Site from the NPL.

(4) The EPA placed copies of documents supporting the deletion in the Site information repositories identified above.

(5) If adverse comments are received within the 30-day public comment period on this document, EPA will publish a timely notice of withdrawal of this Direct Final Notice of Deletion before its effective date and will prepare a response to comments and continue with the deletion process on the basis of the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Location

The Mallard Bay Landing Bulk Plant (MBLBP) Site is located 23 miles northeast of Grand Chenier in Cameron Parish, Louisiana; about 8 miles southwest of Gueydan in Vermillion Parish, Louisiana; and about 15 miles south of Jennings in Jefferson Davis Parish, Louisiana. The geographic center of the Site is at latitude 29°56′27″ north and longitude 92°39′21″ west and the address is 2240 South Talen's Landing Road in Cameron Parish.

Site History

In early 1980 through 1983, the MBLBP facility operated as a crude oil refinery. Mixed crude oil was refined to produce naphtha, diesel fuel, and No. 6 fuel oil. In August 1985, under new ownership, the facility resumed crude oil refining operations and continued operations until early 1987, when the owners filed for bankruptcy and the facility was closed. In 1987, the LDEQ-Hazardous Waste Division conducted a site inspection, in response to the bankruptcy proceedings. LDEQ noted that the facility had allegedly accepted hazardous waste fuels for which it was not permitted and had also received and attempted to process styrene, a compound commonly used to produce plastics.

The facility was actively monitored by the Louisiana Department of Natural Resources (LDNR) and LDEQ during its operational years. Based on information obtained during a 1993 site inspection, LDEQ referred the site to EPA in June 1993. On July 30, 1996, EPA organized and conducted a removal assessment, which included the sampling and analysis of above-ground storage tanks (ASTs) and drums located on-site, as well as an evaluation of appropriate treatment and disposal options. From January to March 1999, EPA oversaw the removal and off-site disposal of approximately 866,304 gallons of oil/waste material from on-site ASTs. An additional 152,392 gallons of thick, sludge-like oil/waste material could not be removed from some ASTs due to its viscous consistency. Chemical analyses of this remaining tank waste revealed elevated concentrations of styrene, benzene, toluene, ethylbenzene, xylenes, 2-methylnaphthalene, naphthalene, arsenic, barium, chromium, copper, lead, manganese, mercury, nickel, vanadium, and zinc. Sediment samples collected from the wetlands adjacent to the area containing the tank waste revealed elevated levels of arsenic, barium, copper, manganese, mercury, nickel, vanadium, and zinc.

On July 27, 2000, EPA formally announced that it was adding the MBLBP site to the National Priorities List (NPL), making it eligible for funding under EPA's Superfund program.

Remedial Investigation and Feasibility Study (RI/FS)

From late 2000 to early 2002, EPA conducted field sampling and investigation activities at the MBLBP Site including collection and analyses of soil, sediment, surface water, ground water, waste materials, and asbestos-containing materials to determine if significant pollutant concentrations were present. The Remedial Investigation (RI) and Feasability Study (FS) identified the types, quantities, and locations of contaminants found in these samples. The sample results generally indicated that the Site had been impacted by volatile, semi-volatile, and metal constituents commonly found at oil refinery facilities.

Results

• Metals and semi-volatile contamination was found in soils at the site and generally confined to the top 1 foot of soil.

• Ground water contamination was very intermittent across the site in the first water bearing zone.

• The only organics detected above screening levels were in the sediments within the west tank battery.

• No organics were detected in surface waters above screening levels.

• Metals were detected in surface water samples from the tank battery and treatment ponds on the west side of the Site.

• Waste materials and two above ground storage tanks contained high concentrations (relative to screening levels) of metals and organics.

• Asbestos-containing material was identified on some above ground piping and other process units.

Characterization of Risk

As part of the RI/FS, EPA conducted a human health risk assessment (HHRA) and an ecological risk assessment (ERA). The assessments estimated the probability and magnitude of potential adverse human health and environmental effects from exposure to contaminants associated with the Site assuming no remedial action was taken. They provided the basis for taking action and identified the contaminants and exposure pathways that need to be addressed by the remedial action. A review of the analytical data obtained during the field investigation revealed constituents in the process sludge contained in onsite tanks, at hazardous concentrations. Because the hazardous sludges were thus established as a risk, they were excluded from the HHRA and ERA to prevent bias in the risk assessment of the remaining media at the Site.

The MBLBP Site is an industrial facility in a rural area of Cameron Parish with predominantly undeveloped properties and other industrial facilities surrounding the Site. Therefore, the reasonably anticipated future land use for the offsite and onsite areas is industrial. However, to evaluate risks, should future residential development occur onsite, a hypothetical future residential use evaluation was also conducted. Based on the future residential scenario, adult and child residents were identified as potential receptors, and for the industrial scenario, adult workers were identified as potential receptors.

The risk assessment indicated that hypothetical future exposures to ground water were predicted to result in cancer risk probabilities and noncancer hazards above acceptable risk levels. In addition to ground water exposures, hypothetical future exposures to a small area of the surface soil at the site were predicted to result in non-cancer hazards exceeding acceptable risk levels.

The ERA focused on the on-site terrestrial habitat and the aquatic habitat provided by onsite holding ponds and drainage pathways leading offsite. No risks to aquatic receptors were identified in the assessment. Edible parts (fruits and leaves) of the plants as well as soils were determined to not be toxic to soil invertebrates, mammals, and birds. Therefore, there were no significant ecological risks identified in the ERA.

Remedial Action Objectives

Based upon the HHRA and the ERA, the following remedial action objectives were developed for the site:

• Treat process sludge contained within vessels and piping so that it may be safely removed and properly disposed offsite, to no longer pose a threat to human health and the environment as a characteristically hazardous waste,

• Properly remove and dispose of asbestos containing materials,

• Isolate and remove shallow contaminated soils,

• Demolish, dispose of, or otherwise prohibit access to all existing buildings, piping, and tanks.

Record of Decision Findings

The EPA signed a Record of Decision (ROD) on March 12, 2003, with the remedial action addressing the Site as one operable unit. The ROD addressed the wastes left on-site after the previous removal action as well as any contaminated media. The ROD selected solidification/stabilization and off-site disposal of tank sludge and hot spot soils; removal and off-site disposal of asbestos-containing material; demolition, decontamination, and off-site disposal or recycling of existing on-site buildings, tanks, and piping; and removal and off-site disposal of stockpile wastes and drums remaining from previous investigations. Ground water would be monitored during remedial activities to assess the need for institutional controls.

EPA determined during the design preparations of the selected remedy that the treatment method for sludge wastes at the Site was not sufficient to meet appropriate waste disposal regulations. On May 30, 2003, TetraTech EM Inc. completed a Supplemental Feasibility Report describing alternative remediation disposal methods for the sludge wastes. A Revised Proposed Plan was issued by EPA on June 6, 2003, for a 30 day public comment period which provided a detailed summary and discussion of various remedial alternatives to address the sludge wastes at the Site. No members of the public were in attendance at the public meeting held of June 17, 2003, nor were any comments received by EPA from the public concerning the revised proposed plan. The LDEQ did submit comments related to the proposed plan and concurred with the preferred alternative. A ROD Amendment was signed on July 10, 2003, which selected excavation/extraction and off-site energy recovery/thermal destruction as the remedial alternative to address the sludge wastes at the Site.

Design Criteria

On February 21, 2003, EPA issued a work assignment to TetraTech EM Inc. to perform the Remedial Design (RD). The Fund-lead RD was completed on May 5, 2003. The project was also a Fund-lead construction.

Between March 2003 and June 2003, EPA and the State (i.e., LDEQ) negotiated a State Superfund Contract (SSC). The SSC was reviewed before a final contract was signed on June 10, 2003. The first amendment to the SSC was signed on July 17, 2003, with a second and final amendment being signed on August 14, 2003. The SSC provided that the State pay 10% of the remedial action costs.

The Remedial Design included the following components:

• Approximately 152,400 gallons of hazardous tank sludge located in aboveground storage tanks (ASTs) will be extracted and stabilized by adding and mixing a chemical reagent. Once the on-site contaminated material is stabilized and sampled to ensure Toxicity Characteristic Leaching Procedure (TCLP) performance standards are met, the mixture will be transported to an off-site landfill.

• Approximately 220 cubic yards of soil will be excavated from hot spot location WE04, as well as about 857 cubic yards from underneath the ASTs. This material will be stabilized by adding and mixing a chemical reagent. Once the consolidated contaminated material is stabilized and sampled to ensure TCLP performance standards are met, the mixture will be transported to an off-site landfill.

• About 12,000 linear feet of aboveground and underground piping will be cleaned/removed/recycled off-site or cleaned and abandoned in-place.

• About 5,000 square feet of aboveground building structures will be dismantled and demolished and properly disposed or recycled off-site.

• All waste materials in stockpiles and drums that were left from previous investigations will be removed and properly disposed off-site.

• About 1,044 tons of on-site tanks will be demolished, de-contaminated and stored in a temporary storage area until transported to a scrap yard for recycling or off-site disposal.

• Approximately 210 linear feet of asbestos-containing material (ACM) contained on the piping and additional ACM located in the small heater area of the East Facility will be abated prior to the demolition of the facility and disposed off-site.

• Surface water located in treatment ponds on the West Facility will be discharged into an adjacent drainage ditch. All on-site ponds will be partially filled with concrete stockpile recovered from the Site, then backfilled with soil from the earthen berms presently surrounding them.

• The Site will be graded and seeded with indigenous grasses to prevent water accumulation.

• During remedial action, efforts will be made to control dust to limit the amount of materials that may migrate off-site.

• Ground water will be monitored during remedial activities to assess the need for institutional controls.

The RD was modified concerning the disposition of the 152,400 gallons of hazardous tank sludge. Immediately prior to the initiation of the Remedial Action (RA) at the Site, it was determined that the sludge stabilization treatment method was not sufficient to meet appropriate waste disposal regulations. The revised sludge treatment alternative of utilizing the sludge as a supplemental fuel source at an off-site thermal destruction facility was the subject of the Revised Proposed Plan of June 6, 2003, and the ROD Amendment of July 10, 2003.

Remedial Construction Activities

The EPA issued Remedial Action (RA) work assignment to the Response Action Contract (RAC) contractor on June 2, 2003, with on-site RA construction beginning on June 8, 2003.

The 2003 Remedial Action at the Site included the following:

• 200,150 gallons of sludge were extracted from the Site and utilized as a supplemental fuel source at an off-site thermal destruction facility.

• 895 tons of on-site tanks, piping, and vessels were demolished, removed, decontaminated, and recycled or disposed at an off-site facility.

• 1120 cubic yards of contaminated soil were excavated and disposed in an appropriate off-site landfill.

• 5875 feet of 10 inch, 6 inch, and 4 inch pipe were demolished, cleaned out (combined with sludge wastes), and removed.

• 7785 feet of 10 inch, 6 inch, and 4 inch pipe were evacuated and abandoned in place.

• 4000 square feet of above ground buildings were dismantled, demolished, and disposed or recycled off-site.

• 21 cubic yards of asbestos-containing material were abated during demolition activities.

• Surface water from on-site ponds meeting State discharge standards was discharged into an adjacent drainage canal.

• Ground water met all Federal and State standards, so no further action was needed concerning ground water at the Site.

• The Site was graded to prevent water accumulation.

The EPA and the State of Louisiana conducted the RA as planned, and completed a pre-final inspection on September 8, 2003. During the inspection, several minor punch list items were identified, however, the RA activities completed according to design specifications were:

• Site preparation activities:

• Excavation and disposal of on-site contaminated soil;

• Removal and disposal of remaining waste materials;

• Treatment and discharge of surface water;

• Removal and disposal of above ground/under ground tanks;

• Removal and disposal of above ground/under ground piping;

• Removal and disposal of above ground structures;

• Removal and disposal of asbestos-containing materials;

• Analysis of confirmation samples from all excavation areas;

• Sampling and evaluation of ground water.

Activities identified in the pre-final inspection included decontamination and return of containers utilized for fuel blending of the sludge waste materials, general site grading and restoration activities, and plugging and abandonment of on-site ground water monitoring wells. These activities were scheduled to be completed by the end of September 2003. The EPA conducted a final inspection on October 2, 2003, at which time all RA field activities had been completed.

On August 23, 2004, EPA signed a Remedial Action Report signifying successful completion of construction activities. No specified reuse of the property has been established at this time. While there has been some interest in purchase of the property by local individuals/organizations, no purchase agreements have been developed nor finalized.

The remedial actions set forth in the ROD and the ROD Amendment were consistent with, and complied with, the Superfund Amendments and Reauthorization Act (SARA) of 1986, Public Law 99-499, which substantially amended CERCLA, 42 U.S.C. 9601 et seq., and the National Contingency Plan (NCP). SARA codified many of the existing requirements under the then existing NCP (1985), as well as adding, among other things, a new section 121 to CERCLA, which provided direction for selection of remedial actions compliant with applicable or relevant and appropriate Federal, State, and local laws regulations and requirements (Applicable or Relevant and Appropriate Requirements) 42 U.S.C. 9621.

Five-Year Review

Upon completion of this remedy, no hazardous substances remain at the Site above levels that prevent unlimited use and unrestricted exposure. Since no additional operation and maintenance activities are needed, the EPA does not need to conduct a five-year review pursuant to CERCLA Section 121(c) and as provided in the current guidance on Five Year Reviews: OSWER Directive 9355.7-03B-P, Comprehensive Five-Year Review Guidance (June 2001).

Community Involvement

Public participation activities have been satisfied as required in CERCLA section 113(k), 42 U.S.C. 9613(k), and CERCLA section 117, 42 U.S.C. 9617. Documents in the deletion docket which EPA relied on for recommendation of the deletion from the NPL are available to the public in the information repositories.

V. Deletion Action

The EPA, with concurrence of the State of Louisiana, has determined that all appropriate responses under CERCLA have been completed, and that no further response actions, under CERCLA, are necessary. Therefore, EPA is deleting the Site from the NPL.

Because EPA considers this action to be noncontroversial and routine, EPA is taking it without prior publication. This action will be effective September 19, 2005, unless EPA receives adverse comments by August 19, 2005. If adverse comments are received within the 30-day public comment period, EPA will publish a timely withdrawal of this direct final notice of deletion before the effective date of the deletion and it will not take effect. The EPA will prepare a response to comments and continue with the deletion process on the basis of the notice of intent to delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: July 8, 2005.
Richard E. Greene,
Regional Administrator, Region 6.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under Louisiana (“LA”) by removing the site name “Mallard Bay Landing Bulk Plant”.

[FR Doc. 05-14067 Filed 7-19-05; 8:45 am]

BILLING CODE 6560-50-P